DEPARTMENT OF ENERGY

Federal Energy Regulatory Commission

[Docket No. CP01-153-002]

Tuscarora Gas Transmission Company; Notice of Amendment to Certificate of Public Convenience and Necessity

March 1, 2002.

Take notice that on February 25, 2002, Tuscarora Gas Transmission Company (Tuscarora), 1575 Delucchi Lane, Suite 225, Reno, Nevada 89520-3057, filed in Docket No. CP01-153-002 an application pursuant to section 7(c) of the Natural Gas Act (NGA) and Part 157 of the Commission's Regulations to amend the certificate of public convenience and necessity issued to Tuscarora on January 30, 2002 in Docket Nos. CP01-153-000 and CP01-153-001, all as more fully set forth in the application which is on file with the Commission and open to public inspection. This filing may also be viewed on the Web at http://www.ferc.gov using the “RIMS” link, select “Docket #” and follow the instructions (call 202-208-2222 for assistance).

The January 30, 2002 certificate of public convenience and necessity (January 30 Order) authorized Tuscarora to construct, install, own, operate and maintain, 14.2 miles of 20-inch diameter natural gas pipeline, one valve site, two meter stations, three compressor stations, a booster compressor unit, and appurtenant facilities to provide up to 95,912 Dth per day of firm transportation service for four expansion shippers.

By this amendment, Tuscarora requests all authorizations necessary to amend its certificate to construct and operate the facilities authorized in the January 30 Order in two phases. Tuscarora states that this will allow it construct and operate all of the facilities necessary to provide service for its expansion shippers other than Duke Energy North America, L.L.C. (DENA) by the 2002-2003 heating season. Tuscarora states that the Phase 1 facilities will consist of: (i) Approximately 10.5 miles of pipeline extending from the Wadsworth Tap to the proposed Paiute Interconnect Meter Station, (ii) one new valve site, (iii) the Paiute Meter Station, (iv) a booster compressor unit, (v) the Radar Compressor Station, (vi) the Shoetree Compressor Station, and (vii) appurtenant facilities. Tuscarora states that the Phase 2 facilities necessary to provide the transportation service for DENA will consist of: (i) Approximately 3.7 miles of pipeline extending from the Paiute Interconnect Meter Station to the Washoe Energy Facility, (ii) the Washoe Meter Station, (iii) any necessary interconnecting facilities at the Washoe Energy Facility, and (iv) the Likely Compressor Station. Tuscarora requests that the Commission issue an amended certificate order by April 12, 2002 to enable Tuscarora to commence construction of the Phase 1 facilities before the end of April 2002 to enable Tuscarora to provide service to the Phase 1 customers by the 2002-2003 heating season.

Any questions concerning this application may be directed to Gregory L. Galbraith, Tuscarora Gas Transmission Company, 1575 Delucchi Lane, Suite 225, P.O. Box 30057, Reno, Nevada 89520-3057, call (775) 834-4292 or fax (775) 834-3886.

There are two ways to become involved in the Commission's review of this project. First, any person wishing to obtain legal status by becoming a party to the proceedings for this project should, on or before March 11, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests, and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Magalie R. Salas,
Secretary.

[FR Doc. 02-5439 Filed 3-6-02; 8:45 am]

BILLING CODE 6717-01-P